ENVIRONMENTAL PROTECTION AGENCY

40 CFR Parts 52 and 81

[EPA-R05-OAR-2006-0399; FRL-8232-1]

Determination of Attainment, Approval and Promulgation of Implementation Plans and Designation of Areas for Air Quality Planning Purposes; Indiana; Redesignation of Allen County 8-hour Ozone Nonattainment Area to Attainment for Ozone; Withdrawal of Direct Final Rule

AGENCY: Environmental Protection Agency (EPA).

ACTION: Withdrawal of direct final rule.

SUMMARY: Due to the receipt of an adverse comment, the EPA is withdrawing the August 30, 2006 (71 FR 51489), direct final rule approving the State of Indiana's May 30, 2006, request to redesignate the 8-hour ozone National Ambient Air Quality Standard (NAAQS) nonattainment area of Allen County, Indiana, to attainment for the 8-hour ozone NAAQS; and for EPA approval of an Indiana State Implementation Plan (SIP) revision containing a 14-year maintenance plan for Allen County. In the direct final rule, EPA stated that if adverse comments were submitted by September 29, 2006, the rule would be withdrawn and not take effect. On September 4, 2006, EPA received a comment. EPA believes this comment is adverse and, therefore, EPA is withdrawing the direct final rule. EPA will address the comment in a subsequent final action based upon the proposed action also published on August 30, 2006 (71 FR 51546). EPA will not institute a second comment period on this action.

DATES: The direct final rule published at 71 FR 51489 on August 30, 2006 is withdrawn as of October 19, 2006.

FOR FURTHER INFORMATION CONTACT: Steven Rosenthal, Environmental Engineer, Criteria Pollutant Section, Air Programs Branch (AR-18J), Environmental Protection Agency, Region 5, 77 West Jackson Boulevard, Chicago, Illinois 60604, (312)886-6052, Rosenthal.steven@epa.gov.

List of Subjects

40 CFR Part 52

Environmental protection, Air pollution control, Incorporation by reference, Intergovernmental relations, Nitrogen dioxide, Ozone, and Volatile organic compounds.

40 CFR Part 81

Air pollution control, Environmental protection, National parks, Wilderness areas.

Dated: October 6, 2006.
Gary Gulezian,
Acting Regional Administrator, Region 5.

PART 40—[AMENDED]

Accordingly, the amendments to 40 CFR 52.777 and 81.315 published in the Federal Register on August 30, 2006 (71 FR 51489) on pages 51489-51500 is withdrawn as of October 19, 2006.

[FR Doc. E6-17432 Filed 10-18-06; 8:45 am]

BILLING CODE 6560-50-P